DEPARTMENT OF TRANSPORTATION

Federal Transit Administration

Limitation on Claims Against Proposed Public Transportation Project—METRO Blue Line Light Rail Extension Project, Cities of Minneapolis, Robbinsdale, Crystal, and Brooklyn Park, Hennepin County, Minnesota.

AGENCY: Federal Transit Administration (FTA), Department of Transportation (DOT).

ACTION: Notice.

SUMMARY: This notice announces final environmental actions taken by the Federal Transit Administration (FTA) regarding the METRO Blue Line Light Rail Extension Project in the Cities of Minneapolis, Robbinsdale, Crystal, and Brooklyn Park, Hennepin County, Minnesota. The purpose of this notice is to publicly announce FTA's environmental decisions on the subject project and to activate the limitation on any claims that may challenge these final environmental actions.

DATES: A claim seeking judicial review of FTA actions announced herein for the listed public transportation project will be barred unless the claim is filed on or before February 6, 2026.

FOR FURTHER INFORMATION CONTACT: Kathryn Loster, Assistant Chief Counsel, Office of Chief Counsel, (202) 360-2322, or Saadat Khan, Environmental Protection Specialist, Office of Environmental Policy and Programs, (202) 366-6385. FTA is located at 1200 New Jersey Avenue SE, Washington, DC 20590. Office hours are from 9:00 a.m. to 5:00 p.m., Monday through Friday, except federal holidays.

SUPPLEMENTARY INFORMATION: Notice is hereby given that FTA has taken final agency actions subject to 23 U.S.C. 139(l) by issuing certain approvals for the public transportation project listed below. The actions on the project, as well as the laws under which such actions were taken, are described in the documentation issued in connection with the project to comply with the National Environmental Policy Act (NEPA) and in other documents in the FTA environmental project files for the project. Interested parties may contact either the project sponsor or the relevant FTA Regional Office for more information. Contact information for FTA's Regional Offices may be found at https://www.transit.dot.gov/about/regional-offices/regional-offices.

This notice applies to all FTA decisions on the listed project as of the issuance date of this notice and all laws under which such actions were taken, including, but not limited to, NEPA (42 U.S.C. 4321-4375), Section 4(f) requirements, (49 U.S.C. 303), Section 106 of the National Historic Preservation Act (54 U.S.C. 306108), Section 6(f) of the Land and Water Conservation Fund Act (54 U.S.C. 200305), Endangered Species Act (16 U.S.C. 1531), Migratory Bird Treaty (16 U.S.C. 703-712), Bald and Golden Eagle Protection Act (16 U.S.C. 668-668d), Clean Water Act, (33 U.S.C. 1251), Uniform Relocation Assistance and Real Property Acquisition Policies Act (42 U.S.C. 4601), and the Clean Air Act (42 U.S.C. 7401-7671q). This notice does not, however, alter or extend the limitation period for challenges of project decisions subject to previous notices published in the Federal Register. The project modifications and actions that are the subject of this notice follow:

Project name and location: METRO Blue Line Light Rail Extension Project (Project), Cities of Minneapolis, Robbinsdale, Crystal, and Brooklyn Park, Hennepin County, Minnesota.

Project Sponsor: Metropolitan Council, City of Saint Paul, Ramsey County, Minnesota.

Project description: The Project includes construction of approximately 13.4 miles of new light rail transit (LRT) double-tracks to extend the METRO Blue Line, connecting Downtown Minneapolis to the Cities of Robbinsdale, Crystal, and Brooklyn Park. The Project also involves construction of 13 new LRT stations; park-and-ride facilities with up to 1,531 parking spaces; and accommodations for passenger drop-off, bicycle and pedestrian access. Additionally, the Project work consists of the construction of an operational maintenance facility, 18 traction power substations, 7 new LRT bridges, 4 new or reconstructed roadway bridges, and 2 new or upgraded pedestrian bridges and underpasses plus associated infrastructure improvements.

Final agency action: Section 4(f) determination dated August 11, 2025; Section 6(f) Temporary Non-Conforming Use (TNCU) dated August 11, 2025; METRO Blue Line Light Rail Extension Project Amended Record of Decision (ROD), dated August 11, 2025.

Supporting documentation: METRO Blue Line Light Rail Extension Project Supplemental Final Environmental Impact Statement (EIS), dated May 16, 2025. METRO Blue Line Light Rail Extension Project Supplemental Draft EIS, dated June 12, 2024. The Amended ROD, Supplemental Final EIS, Supplemental Draft EIS, and associated documents can be viewed and downloaded from: https://metrocouncil.org/Transportation/Projects/Light-Rail-Projects/METRO-Blue-Line-Extension/Environmental.aspx.

Authority: 23 U.S.C. 139(l)(1).

Megan Blum,
Deputy Associate Administrator for Planning and Environment.

[FR Doc. 2025-17303 Filed 9-8-25; 8:45 am]

BILLING CODE 4910-57-P